FEDERAL DEPOSIT INSURANCE CORPORATION

Notice of Agency Meeting

Pursuant to the provisions of the “Government in the Sunshine Act” (5 U.S.C. 552b), notice is hereby given that the Federal Deposit Insurance Corporation's Board of Directors will meet in open session at 10 a.m. on Tuesday, April 6, 2004, to consider the following matters:

Summary Agenda

No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Interim Final Rule Amending Part 335 to Require Electronic Filing of Beneficial Ownership Reports

Memorandum and resolution re: Part 352—Final Rule Amending the FDIC's Rehabilitation Act Regulation

Memorandum and resolution re: Amendment to Interim Final Rule: Part 325, Extension of Interim Capital Treatment of Consolidated Asset-Backed Commercial Paper Program Assets

Discussion Agenda

Memorandum and resolution re: Notice of Proposed Rulemaking re: Whether Funds Underlying Stored Value Cards Qualify as Insurable “Deposits”

Memorandum and resolution re: Notice of Proposed Rulemaking—12 CFR part 334: Medical Privacy Regulations under the Fair and Accurate Credit Transactions Act of 2003

The meeting will be held in the Board Room on the sixth floor of the FDIC Building located at 550—17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Mr. Robert E. Feldman, Executive Secretary of the Corporation, at (202) 898-7043.

Dated: March 30, 2004.
Federal Deposit Insurance Corporation.
Robert E. Feldman,
Executive Secretary.

[FR Doc. E4-742 Filed 4-02-04; 8:45 am]

BILLING CODE 6714-01-P